DEPARTMENT OF ENERGY

Federal Energy Regulatory Commission

[Docket No. RP02-541-000]

Nicole Gas Production, Ltd. v. Columbia Gas Transmission Corporation; Notice of Complaint

September 17, 2002.

Take notice that on September 11, 2002, Nicole Production, Ltd. (Nicole), a minority-owned gas producer, filed a complaint against Columbia Gas Transmission Corporation (Columbia Gas) pursuant to 18 CFR 385.206. Nicole alleges that Columbia Gas has improperly voided its gathering agreement with Nicole. Nicole alleges that Columbia Gas has improperly assessed gathering charges when such charges were not warranted. Nicole also alleges that Columbia Gas has improperly assessed it imbalance charges on several occasions and that Columbia Gas has improperly metered gas from Nicole's wells.

Any person desiring to be heard or to protest this filing should file with the Federal Energy Regulatory Commission, 888 First Street, NE., Washington, DC 20426, in accordance with Rules 211 and 214 of the Commission's rules of practice and procedure (18 CFR 385.211 and 385.214). Protests will be considered by the Commission in determining the appropriate action to be taken, but will not serve to make protestants parties to the proceeding. Any person wishing to become a party must file a motion to intervene. The answer to the complaint and all comments, interventions or protests must be filed on or before October 7, 2002. This filing is available for review at the Commission in the Public Reference Room or may be viewed on the Commission's website at http://www.ferc.gov using the “FERRIS” link. Enter the docket number excluding the last three digits in the docket number field to access the document. For Assistance, call (202)502-8222 or for TTY, (202) 208-1659. The answer to the complaint, comments, protests and interventions may be filed electronically via the Internet in lieu of paper; See 18 CFR 385.2001(a)(1)(iii) and the instructions on the Commission's web site under the “e-Filing” link. The Commission strongly encourages electronic filings.

Magalie R. Salas,
Secretary.

[FR Doc. 02-24039 Filed 9-20-02; 8:45 am]

BILLING CODE 6717-01-P